NUCLEAR REGULATORY COMMISSION

10 CFR Part 52 Construction Inspection Program Framework Document; Availability of NUREG

AGENCY: U.S. Nuclear Regulatory Commission.

ACTION: Notice of availability.

SUMMARY: The Nuclear Regulatory Commission is announcing the completion and availability of NUREG-1789, “10 CFR Part 52 Construction Inspection Program Framework Document,” dated April 2004.

ADDRESSES: Copies of NUREG-1789 may be purchased from the Superintendent of Documents, U.S. Government Printing Office, P.O. Box 37082, Washington, DC 20402-9328; http://www.access.gpo.gov/su_docs; 202-512-1800 or The National Technical Information Service, Springfield, Virginia 22161-0002; http://www.ntis.gov; 1-800-533-6847 or, locally, 703-805-6000.

A copy of the document is also available for inspection and/or copying for a fee in the NRC Public Document Room, 11555 Rockville Pike, Rockville, Maryland. As of November 1, 1999, you may also electronically access NUREG-series publications and other NRC records at NRC's Public Electronic Reading Room at http://www.nrc.gov/reading-rm.html.

Some publications in the NUREG series that are posted at NRC's Web site address http://www.nrc.gov are updated regularly and may differ from the last printed version.

FOR FURTHER INFORMATION, CONTACT: Ms. Mary Ann M. Ashley, Inspection Program Branch, U.S. Nuclear Regulatory Commission, Washington, DC 20555-0001. Ms. Ashley may be reached at (301) 415-1073 or by e-mail at mab@nrc.gov.

SUPPLEMENTARY INFORMATION: On May 30, 2003, the NRC staff issued the “Draft 10 CFR Part 52 Construction Inspection Program Framework Document” for public comment. The framework document set forth the proposed basis for the construction inspection program for reactors built under 10 CFR Part 52. A public workshop was held on August 27, 2003 to discuss the scope and the types of inspections which are planned during the new reactor construction project.

The NRC has considered the comments received from stakeholders and has incorporated them, as appropriate, into a final revision of the construction inspection program framework document and is issuing the framework as NUREG-1789. A detailed resolution of comments submitted about the draft framework document has been incorporated into NUREG-1789. The NUREG details the audits and inspections that will be conducted by the NRC during the Early Site Permit (ESP) and Combined License (COL) phases. The document also discusses how the NRC staff will verify satisfactory completion of the inspections, tests, analyses, and acceptance criteria (ITAAC) and review operational programs. NRC staff will use the inspection program descriptions contained in the framework NUREG to guide the development of internal inspection documents including Inspection Manual Chapters and Inspection Procedures.

Dated at Rockville, Maryland, this 12th day of May 2004.
For the Nuclear Regulatory Commission.
Stuart A. Richards,
Chief, Inspection Program Branch, Division of Inspection Program Management, Office of Nuclear Reactor Regulation.

[FR Doc. 04-11757 Filed 5-24-04; 8:45 am]

BILLING CODE 7590-01-P